DEPARTMENT OF COMMERCE

International Trade Administration

[A-588-833]

Final Results of Antidumping Duty Changed-Circumstances Review and Revocation of Order in Part: Stainless Steel Bar from Japan

AGENCY: Import Administration, International Trade Administration, Department of Commerce.

SUMMARY: On November 8, 2006, the Department of Commerce (the Department) published a notice of preliminary results of changed-circumstances review with the intent to revoke, in part, the antidumping duty order on stainless steel bar from Japan, as described below. See Preliminary Results of Antidumping Duty Changed-Circumstances Review and Notice of Intent to Revoke Order in Part: Stainless Steel Bar from Japan, 71 FR 65465 (November 8, 2006) (Preliminary Results). In our Preliminary Results, we invited interested parties to comment on the preliminary determination to exclude 21-2N modified valve/stem stainless steel round bar from Japan (product in question), as described below, from the scope of the order. The Department received no comments and is, therefore, revoking the order in part.

EFFECTIVE DATE: December 7, 2006.

FOR FURTHER INFORMATION CONTACT: Dmitry Vladimirov or Minoo Hatten, AD/CVD Operations, Office 5, Import Administration, International Trade Administration, Department of Commerce, 14th Street and Constitution Avenue, NW, Washington, DC 20230; telephone: (202) 482-0665 or (202) 482-1690.

SUPPLEMENTARY INFORMATION:

Background

The Department published the antidumping duty order on stainless steel bar from Japan on February 21, 1995. See Notices of Antidumping Duty Orders: Stainless Steel Bar from Brazil, India, and Japan, 60 FR 9661 (February 21, 1995). On August 28, 2006, TRW Fuji Valve, Inc. (TRW), a U.S. importer of the subject merchandise, requested a changed-circumstances review to exclude from the antidumping duty order on stainless steel bar from Japan imports meeting the following description: certain valve/stem stainless steel round bar of 21-2N modified grade, having a diameter of 5.7 millimeters (with a tolerance of 0.025 millimeters), in length no greater than 15 meters, having a chemical composition consisting of a minimum of 0.50 percent and a maximum of 0.60 percent of carbon, a minimum of 7.50 percent and a maximum of 9.50 percent of manganese, a maximum of 0.25 percent of silicon, a maximum of 0.04 percent of phosphorus, a maximum of 0.03 percent of sulfur, a minimum of 20.0 percent and a maximum of 22.00 percent of chromium, a minimum of 2.00 percent and a maximum of 3.00 percent of nickel, a minimum of 0.20 percent and a maximum of 0.40 percent of nitrogen, a minimum of 0.85 percent of the combined content of carbon and nitrogen, and a balance minimum of iron, having a maximum core hardness of 385 HB and a maximum surface hardness of 425 HB, with a minimum hardness of 270 HB for annealed material. See TRW's letter to the Secretary, dated August 28, 2006. TRW requested that the Department revoke the order in part retroactively to February 1, 2006, the beginning of the anniversary month of the order. On September 18, 2006, the petitioners and domestic interested parties¹ provided a letter attesting to their expressed lack of interest in having this merchandise continue to be subject to the antidumping duty order on stainless steel bar from Japan.

¹ The petitioners and domestic interested parties include Carpenter Technology Corp., Crucible Specialty Metals Division of Crucible Materials Corp., Electralloy Corp., North American Stainless, Universal Stainless and Alloy Products, Inc., and Valbruna Slater Stainless, Inc.

In response to the request made by the interested party, TRW, within the meaning of section 771(9) of the Tariff Act of 1930, as amended (the Act), and the expressed lack of interest from the petitioners and domestic interested parties, on October 16, 2006, the Department published a notice of initiation of a changed-circumstances review of the antidumping duty order on stainless steel bar from Japan. See Initiation of Antidumping Duty Changed-Circumstances Review: Stainless Steel Bar from Japan, 71 FR 60691 (October 16, 2006) (Initiation Notice). In the Initiation Notice, the Department indicated that interested parties could submit comments for consideration in the Department's preliminary results no later than 15 days after publication of the initiation of this review. The Department did not receive comments from interested parties.

Absent any comments, the Department concluded preliminarily that producers accounting for substantially all of the production of the domestic like product to which this order pertains lacked interest in the relief provided by this order with respect to the product in question. See Preliminary Results. The Department invited interested parties to comment on its preliminary determination to revoke the order, in part. The Department did not receive comments from any interested parties.

Scope of the Order

The scope of the order covers stainless steel bar (SSB). The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to this order is currently classifiable under subheadings 7222.10.0005, 7222.10.0050, 7222.20.0005, 7222.20.0045, 7222.20.0075, and 7222.30.0000 of the Harmonized Tariff Schedule of the United States (HTSUS).

Although the HTSUS subheadings are provided for convenience and customs purposes, our written description of the scope of this order is dispositive.

Final Result of Review and Revocation of Antidumping Duty Order, In Part

Pursuant to sections 751(d)(1) and 782(h)(2) of the Act, the Department may revoke an antidumping duty order based on a review under section 751(b) of the Act (i.e., a changed-circumstances review). Section 751(b)(1) of the Act requires a changed-circumstances review to be conducted upon receipt of a request which shows changed circumstances sufficient to warrant a review.

In the instant review, based on the information provided by TRW and the lack of comments from the petitioners and domestic interested parties, the Department found preliminarily that the continued relief provided by the order with respect to the product in question from Japan is no longer of interest to the domestic industry. See Preliminary Results, 71 FR at 65466. We did not receive any comments on our Preliminary Results. Therefore, the Department is revoking the order on stainless steel bar from Japan with regard to the product that meets the following specifications: certain valve/stem stainless steel round bar of 21-2N modified grade, having a diameter of 5.7 millimeters (with a tolerance of 0.025 millimeters), in length no greater than 15 meters, having a chemical composition consisting of a minimum of 0.50 percent and a maximum of 0.60 percent of carbon, a minimum of 7.50 percent and a maximum of 9.50 percent of manganese, a maximum of 0.25 percent of silicon, a maximum of 0.04 percent of phosphorus, a maximum of 0.03 percent of sulfur, a minimum of 20.0 percent and a maximum of 22.00 percent of chromium, a minimum of 2.00 percent and a maximum of 3.00 percent of nickel, a minimum of 0.20 percent and a maximum of 0.40 percent of nitrogen, a minimum of 0.85 percent of the combined content of carbon and nitrogen, and a balance minimum of iron, having a maximum core hardness of 385 HB and a maximum surface hardness of 425 HB, with a minimum hardness of 270 HB for annealed material.

We will instruct U.S. Customs and Border Protection (CBP) to liquidate without regard to antidumping duties and to refund any estimated antidumping duties collected on entries of all shipments of the product in question that are not covered by the final results of an administrative review or automatic liquidation. The most recent period for which the Department has completed an administrative review or ordered automatic liquidation under 19 CFR 351.212(c) is February 1, 2005, through January 31, 2006. Any prior entries are subject to either the final results of review or automatic liquidation. Therefore, we will instruct CBP to liquidate, without regard to antidumping duties, shipments of stainless steel bar from Japan meeting the specifications of the product in question entered, or withdrawn from warehouse, for consumption on or after February 1, 2006. We will also instruct CBP to release any cash deposits or bonds and pay interest on such refunds in accordance with section 778 of the Act and 19 CFR 351.222(g)(4).

This changed-circumstances review, partial revocation of antidumping duty order, and notice are completed and published in accordance with sections 751(b) and (d), 782(h), and 777(i)(1) of the Act and sections 351.216(e) and 351.222(g)(3)(vii) of the Department's regulations.

Dated: November 30, 2006.
David M. Spooner,
Assistant Secretary for Import Administration.

[FR Doc. E6-20780 Filed 12-6-06; 8:45 am]

BILLING CODE 3510-DS-S